DEPARTMENT OF COMMERCE

National Oceanic and Atmospheric Administration

[I.D. 030701B]

Gulf of Mexico Fishery Management Council; Public Meetings

AGENCY: National Marine Fisheries Service (NMFS), National Oceanic and Atmospheric Administration (NOAA), Commerce.

ACTION: Notice of public meeting.

SUMMARY: The Gulf of Mexico Fishery Management Council (Council) will convene public meetings.

DATES: The meetings will be held on March 26-30, 2001.

ADDRESSES: These meetings will be held at the Adam’s Mark Hotel, 64 South Water Street, Mobile, AL 36602; telephone: 334-438-4000.

Council address: Gulf of Mexico Fishery Management Council, 3018 U.S. Highway 301 North, Suite 1000, Tampa, FL 33619.

FOR FURTHER INFORMATION CONTACT: Wayne E. Swingle, Executive Director, Gulf of Mexico Fishery Management Council; telephone: (813) 228-2815.

SUPPLEMENTARY INFORMATION:

Council

March 28

8:30 a.m.—Convene.

8:45 a.m.-12 noon—Receive public testimony on the Charter Vessel/Headboat Permit Moratorium Amendment. Persons who will testify must turn in a registration card before the start of the testimony period on Wednesday.

1:30 p.m.-4 p.m.—Continue public testimony if needed.

4 p.m.-5:30 p.m.(CLOSED SESSION)—Receive a report of the Advisory Panel (AP) Selection Committee and the Scientific and Statistical Committee (SSC) Selection Committee.

March 29

8:30 a.m.-8:45 a.m.—Receive a report of the AP Selection Committee and the SSC Selection Committee.

8:45 a.m.-12:30 p.m.—Receive a report of the Joint Reef Fish/Mackerel Management Committees.

1:30 p.m.-2:30 p.m.—Receive a report of the Shrimp Management Committee.

2:30 p.m.-5:30 p.m.—Receive a report of the Reef Fish Management Committee.

March 30

8:30 a.m.-9 a.m.—Receive a report of the Mackerel Management Committee.

9 a.m.-9:15 a.m.—Receive the South Atlantic Fishery Management Council Liaison report.

9:15 a.m.-9:30 a.m.—Receive the Mid-Term Council Chairmen’s Meeting report.

9:30 a.m.-9:45 a.m.—Receive the International Commission for the Conservation of Atlantic Tunas (ICCAT) Advisory Committee report.

9:45 a.m.-10 a.m.—Receive the Gulf & South Atlantic Fishery Foundation Bycatch Workshop report.

10:00 a.m.-10:15 a.m.—Receive enforcement reports.

10:15 a.m.-10:30 a.m.—Receive the NMFS Regional Administrator’s Report.

10:30 a.m.-10:45 a.m.—Receive Director’s Reports.

10:45 a.m.-11 a.m.—Other Business

March 26

8 a.m.-10 a.m. (CLOSED SESSION)—Convene the the AP Selection Committee to develop its recommendations to the Council on appointment of AP members.

10 a.m.-12 noon (CLOSED SESSION)—Convene the SSC Selection Committee to develop its recommendations to the Council on appointment of SSC, stock assessment panel (SAP), and socioeconomic panel (SEP) members.

1 p.m.-5:30 p.m.—Convene the Reef Fish Management Committee to select preferred alternatives on Reef Fish Amendment 18 Options Paper and hear a legal opinion on individual fishing quota (IFQ) development.

March 27

8 a.m.-11:30 a.m.—Convene the Reef Fish Management Committee and the Mackerel Management Committee to develop recommendations to the Council for final action on the Charter Vessel/Headboat Permit Moratorium Amendment. The Council will hear their report and take final action on Thursday, March 29.

1 a.m.-2:30 p.m.—Continue the joint meeting of the Reef Fish Management Committee and the Mackerel Management Committee if necessary.

2:30 p.m.-4 p.m.—Convene the Shrimp Management Committee to discuss Shrimp Amendment 10 Options Paper.

4 p.m.-5:30 p.m.—Convene the Mackerel Management Committee to discuss control rule risk levels.

Although non-emergency issues not contained in the agenda may come before the Council for discussion, in accordance with the Magnuson-Stevens Fishery Conservation and Management Act (MSFCMA), those issues may not be the subject of formal Council action during this meeting. Council action will be restricted to those issues specifically identified in this notice and any issues arising after publication of this notice that require emergency action under section 305 (c) of the MSFCMA, provided the public has been notified of the Council’s intent to take final action to address the emergency.

A copy of the Committee schedule and agenda can be obtained by calling (813) 228-2815.

Special Accommodations

These meetings are physically accessible to people with disabilities. Requests for sign language interpretation or other auxiliary aids should be directed to Anne Alford at the Council (see ADDRESSES) by March 19, 2001.

Dated: March 7, 2001.
Richard W. Surdi,
Acting Director, Office of Sustainable Fisheries, National Marine Fisheries Service.

[FR Doc. 01-6109 Filed 3-9-01; 8:45 am]

BILLING CODE 3510-22-S